DEPARTMENT OF COMMERCE

International Trade Administration

[A-557-816]

Certain Steel Nails From Malaysia: Final Results of the Antidumping Duty Administrative Review and Final Determination of No Shipments; 2018-2019

AGENCY: Enforcement and Compliance, International Trade Administration, Department of Commerce.

SUMMARY: The Department of Commerce (Commerce) determines that certain steel nails from Malaysia were not sold at less than normal value during the period of review (POR), July 1, 2018, through June 30, 2019.

DATES: Applicable March 29, 2021.

FOR FURTHER INFORMATION CONTACT: Preston Cox or John Drury, AD/CVD Operations, Office VI, Enforcement and Compliance, International Trade Administration, U.S. Department of Commerce, 1401 Constitution Avenue NW, Washington, DC 20230; telephone: (202) 482-5041 or (202) 482-0195, respectively.

SUPPLEMENTARY INFORMATION:

Background

On November 23, 2020, Commerce published the Preliminary Results of the 2018-2019 administrative review of the antidumping duty order on certain steel nails from Malaysia.¹ We invited interested parties to comment on the Preliminary Results. This review covers two mandatory respondents: Inmax and Region.² The producers/exporters not selected for individual examination are listed in the “Final Results of the Administrative Review” section of this notice. For a complete description of the events that followed the Preliminary Results, see the Issues and Decision Memorandum.³ Commerce conducted this administrative review in accordance with section 751 of the Tariff Act of 1930, as amended (the Act).

¹ See Certain Steel Nails from Malaysia: Preliminary Results of Antidumping Duty Administrative Review and Preliminary Determination of No Shipments; 2018-2019, 85 FR 74674 (November 23, 2020) (Preliminary Results), and accompanying Preliminary Decision Memorandum (PDM).

² Commerce has determined to collapse, and treat as a single entity, affiliates Inmax Sdn. Bhd. and Inmax Industries Sdn. Bhd. (collectively, Inmax), and Region International Co. Ltd. and Region System Sdn. Bhd. (collectively, Region) for these final results of review. For a discussion of this analysis, see Preliminary Results PDM at 5-7.

³ See Memorandum, “Issues and Decision Memorandum for the Final Results of the Administrative Review of the Antidumping Duty Order on Certain Steel Nails from Malaysia; 2018-2019,” dated concurrently with, and hereby adopted by, this notice (Issues and Decision Memorandum).

Scope of the Order

The products covered by the scope of the order are certain steel nails from Malaysia. For a complete description of the scope of the order, see the Issues and Decision Memorandum.⁴

⁴ See Issues and Decision Memorandum at 2-4.

Analysis of Comments Received

All issues raised in the case and rebuttal briefs by parties in this review are discussed in the Issues and Decision Memorandum. A list of topics included in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Final Determination of No Shipments

In the Preliminary Results, Commerce determined that Astrotech Steels Private Limited (Astrotech), Trinity Steel Private Limited (Trinity), and Jinhai Hardware Co. Ltd. (Jinhai) made no shipments of the subject merchandise to the United States during the POR. No parties commented on this determination. Therefore, for the final results of review, we continue to find that these companies made no shipments of subject merchandise to the United States during the POR. Consistent with our practice, we will issue appropriate instructions to U.S. Customs and Border Protection (CBP) based on our final results.

Changes Since the Preliminary Results

Based on a review of the record and our analysis of the comments received from interested parties regarding our Preliminary Results, we made certain changes to the preliminary margin calculations for Inmax. For a complete discussion of these changes, see the Issues and Decision Memorandum.⁵

⁵ See Issues and Decision Memorandum at 4; see also Memorandum, “Analysis Memorandum for Inmax Sdn. Bhd. and Inmax Industries Sdn. Bhd. in the Final Results of the 2018/2019 Administrative Review of the Antidumping Duty Order on Certain Steel Nails from Malaysia,” dated concurrently with this notice.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually examined, excluding any margins that are zero or de minimis margins, and any margins determined entirely {on the basis of facts available}.''

For these final results, we have calculated weighted-average dumping margins for Inmax and Region that are zero or de minimis, and we have not calculated any margins which are not zero, de minimis, or determined entirely on the basis of facts available. Accordingly, we have assigned to the companies not individually examined a margin of zero percent.

Final Results of the Administrative Review

Commerce determines that the following estimated weighted-average dumping margins exist during the POR:

Producer/exporter | Weighted- average dumping margin (percent)
Inmax Sdn. Bhd. and Inmax Industries Sdn. Bhd | 0.00
Region International Co. Ltd. and Region System Sdn. Bhd | 0.00
Chia Pao Metal Co., Ltd | 0.00
Come Best (Thailand) Co., Ltd | 0.00
Kerry-Apex (Thailand) Co., Ltd | 0.00
Tag Fasteners Sdn. Bhd | 0.00
Vien Group SDN. BHD | 0.00
WWL India Private Ltd | 0.00

Disclosure of Calculations

Commerce intends to disclose the calculations performed for these final results within five days of the date of publication of this notice in the Federal Register to parties in this proceeding, in accordance with 19 CFR 351.224(b).

Assessment Rates

Pursuant to section 751(a)(2)(C) of the Act, and 19 CFR 351.212(b)(1), Commerce has determined, and CBP shall assess, antidumping duties on all appropriate entries of subject merchandise in accordance with the final results of this review. Because we calculated margins for Inmax and Region which are zero or de minimis in the final results of this review, we intend to instruct CBP to liquidate the appropriate entries without regard to antidumping duties.

Further, because we find in these final results that Astrotech, Trinity, and Jinhai had no shipments of subject merchandise during the POR, we will instruct CBP to liquidate such unreviewed entries at the all-others rate if there is no rate for the intermediate company(ies) involved in the transactions.⁶

⁶ For a full discussion of this practice, see Antidumping and Countervailing Duty Proceedings: Assessment of Antidumping Duties, 68 FR 23954 (May 6, 2003).

Commerce's “reseller policy” will apply to entries of subject merchandise during the POR produced by companies included in these final results for which the reviewed companies did not know that the merchandise they sold to the intermediary (e.g., a reseller, trading company, or exporter) was destined for the United States. In such instances, we will instruct CBP to liquidate unreviewed entries at the all-others rate if there is no rate for the intermediate company(ies) involved in the transaction.⁷

⁷ Id.

Consistent with its recent notice,⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 3995 (January 15, 2021).

Cash Deposit Requirements

The following cash deposit requirements will be effective upon publication of the notice of these final results for all shipments of the subject merchandise entered, or withdrawn from warehouse, for consumption on or after the publication date of the final results of this administrative review, as provided by section 751(a)(2) of the Act: (1) The cash deposit rate for the respondents (or non-selected companies) noted above will be equal to the weighted-average dumping margin established in the final results of this review; (2) for merchandise exported by producers or exporters not covered in this review but covered in a prior segment of this proceeding, the cash deposit rate will continue to be the company-specific rate published for the most recently completed segment of this proceeding in which the company participated; (3) if the exporter is not a firm covered in this review, a prior review, or the original less-than-fair-value investigation, but the producer is, then the cash deposit rate will be the rate established for the most recently completed segment of this proceeding for the producer of the subject merchandise; and (4) the cash deposit rate for all other producers or exporters will continue to be 2.66 percent, the all-others rate established in the less-than-fair-value investigation.⁹ These cash deposit requirements, when imposed, shall remain in effect until further notice.

⁹ See Certain Steel Nails From Malaysia: Amended Final Determination of Sales at Less Than Fair Value, 80 FR 34370 (June 16, 2015).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of return/destruction of APO materials, or conversion to judicial protective order, is hereby requested. Failure to comply with the regulations and the terms of an APO is a sanctionable violation.

Notification to Interested Parties

This notice is issued and published in accordance with sections 751(a)(1) and 777(i)(1) of the Act, and 19 CFR 351.221.

Dated: March 22, 2021.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Interest Income Offset

Comment 2: Programming Errors

Comment 3: Scrap Offset

Comment 4: Labor Costs

VI. Recommendation

[FR Doc. 2021-06383 Filed 3-26-21; 8:45 am]

BILLING CODE 3510-DS-P